GENERAL SERVICES ADMINISTRATION

41 CFR Ch. 102

Federal Management Regulation

AGENCY: Office of Governmentwide Policy, GSA.

ACTION: Notice of regulatory development.

SUMMARY: This document is an update on the continuing development of the Federal Management Regulation (FMR). Originally named the Federal Property and Administrative Services Regulation, parts of the FMR are now in effect.

FOR FURTHER INFORMATION CONTACT: Rod Lantier, Director, Regulatory Secretariat, Federal Acquisition Policy Division, (202) 501-2647, e-mail Rodney.Lantier@gsa.gov.

SUPPLEMENTARY INFORMATION: The FMR is the successor regulation to the Federal Property Management Regulations (FPMR), both of which the Administrator of General Services is authorized to issue to govern and guide Federal agencies. The General Services Administration (GSA) and other executive agency officials use these materials to regulate and prescribe policies, procedures, and delegations of authority pertaining to the management of property and other programs and activities administered by GSA. An exception pertains to the procurement and contract matters covered in the Federal Acquisition Regulation.

Presented in a plain language question and answer format, the FMR contains updated regulatory policies originally found in the FPMR. However, it does not contain FPMR material describing how to do business with GSA. “How to” materials will become available in customer service guides, handbooks, brochures and on other websites provided by GSA.

The contents of the FPMR are moving to the FMR according to subject area as each is rewritten. Until the migration to the FMR is complete, agencies must reference both the FMR and the FPMR. In an effort to make this as convenient as possible for users, GSA issues all new FMR materials as changes to the FPMR in a looseleaf format. In this manner, both regulations are kept up to date throughout the transition.

Additionally, GSA has established an FMR/FPMR website. The url for this site is:

http://policyworks.gov/org/main/mv/fmr/index.htm

Although the site remains under construction, FMR content is up to date. The site will soon include the FPMR as it existed on November 1, 1999, before the first migration of its content into the FMR. This full version of the FPMR will be archived for agencies' future reference. GSA will also post a version of the FPMR that is updated as its content is migrated into the FMR. Thus, there will be Internet access to the FMR and any portions of the FPMR that remain in effect.

Finally, the FMR appears in Chapter 102 of Title 41. Once conversion to the FMR is complete, the FPMR, which now appears in Chapter 101 of Title 41, will be reserved in its entirety.

Dated: August 1, 2000.
G. Martin Wagner,
Associate Administrator for Governmentwide Policy.

[FR Doc. 00-19979 Filed 8-7-00; 8:45 am]

BILLING CODE 6820-34-P